DEPARTMENT OF JUSTICE

National Institute of Corrections

Solicitations for Cooperative Agreements

The following funding opportunities were published on Thursday, March 11, 2010 in Volume 75, No. 47.

Solicitation for a Cooperative Agreement—Training for Executive Excellence: The Role of the Correctional CEO Curriculum Development. Funding Opportunity Number 10A61, found on pages 11562 and 11563.

Solicitation for a Cooperative Agreement—Training for Executive Excellence: Leadership Style and Instrumentation Curriculum Development. Funding Opportunity Number 10A62, found on pages 11561 and 11562.

“NOTICE” of extended deadline date for submissions for the above referenced funding opportunities.

Applications will be accepted until 4 p.m. EST on Tuesday, March 30, 2010.

Morris L. Thigpen,
Director, National Institute of Corrections.

[FR Doc. 2010-6812 Filed 3-25-10; 8:45 am]

BILLING CODE 4410-36-P